SURFACE TRANSPORTATION BOARD

[Docket No. EP 290 (Sub-No. 5) (2019-3)]

Quarterly Rail Cost Adjustment Factor

AGENCY: Surface Transportation Board.

ACTION: Determination of the rail cost adjustment factor (RCAF) figures for the third quarter of 2019.

SUMMARY: The Board finds that the third quarter 2019 RCAF (Unadjusted) is 1.057, RCAF (Adjusted) is 0.447, and RCAF-5 is 0.420.

DATES: This decision is effective on July 1, 2019.

FOR FURTHER INFORMATION CONTACT: Pedro Ramirez at (202) 245-0333. Assistance for the hearing impaired is available through the Federal Relay Service at (800) 877-8339.

SUPPLEMENTARY INFORMATION: The Board's decision is posted at http://www.stb.gov.

By the Board, Board Members Begeman, Fuchs, and Oberman.
Decided: June 19, 2019.
Jeffrey Herzig,
Clearance Clerk.

[FR Doc. 2019-13460 Filed 6-24-19; 8:45 am]

BILLING CODE 4915-01-P